DEPARTMENT OF COMMERCE

Foreign-Trade Zones Board

[B-59-2015]

Foreign-Trade Zone (FTZ) 29—Louisville, Kentucky; Authorization of Production Activity; Custom Quality Services (Liquor Kitting), Louisville, Kentucky

On September 2, 2015, the Louisville & Jefferson County Riverport Authority, grantee of FTZ 29, submitted a notification of proposed production activity to the FTZ Board on behalf of Custom Quality Services, within Site 1, in Louisville, Kentucky.

The notification was processed in accordance with the regulations of the FTZ Board (15 CFR part 400), including notice in the Federal Register inviting public comment (80 FR 55086, September 14, 2015). The FTZ Board has determined that no further review of the activity is warranted at this time. The production activity described in the notification is authorized, subject to the FTZ Act and the Board's regulations, including Section 400.14.

Dated: December 31, 2015.
Andrew McGilvray,
Executive Secretary.

[FR Doc. 2016-00362 Filed 1-8-16; 8:45 am]

BILLING CODE 3510-DS-P